DEPARTMENT OF ENERGY

Federal Energy Regulatory Commission

[Project Nos. 11516-000, 11120-002, and 11300-000—Michigan]

Commonwealth Power Company; Notice of Availability of Final Environmental Assessment

January 10, 2002.

In accordance with the National Environmental Policy Act of 1969 and the Federal Energy Regulatory Commission's (Commission) regulations, 18 CFR part 380 (Order No. 486, 52 FR 47897), the Office of Energy Projects has reviewed the application for license for the Irving, Middleville and LaBarge Hydroelectric Projects, located on the Thornapple River in Barry and Kent Counties, Michigan, and has prepared a Final Environmental Assessment (FEA) for the projects. No federal lands are occupied by the projects.

On March 29, 2001, the Commission staff issued a draft Environmental Assessment (EA) for the Irving, Middleville and LaBarge Hydroelectric Projects and requested that any comments be filed within 45 days. Comments were filed by three entities and are addressed in the final EA.

The FEA contains the staff's analysis of the potential environmental effects of the project and concludes that licensing the project, with appropriate environmental protective measures, would not constitute a major federal action that would significantly affect the quality of the human environment.

A copy of the FEA is on file with the Commission and is available for public inspection. The FEA may also be viewed on the web at http://www.ferc.gov using the “RIMS” link—select “Docket#” and follow the instructions (call 202-208-2222 for assistance).

For further information, contact Mark Pawlowski at (202) 219-2795.

C.B. Spencer,
Acting Secretary.

[FR Doc. 02-1085 Filed 1-15-02; 8:45 am]

BILLING CODE 6717-01-P